POSTAL SERVICE

Sunshine Act Meeting; Notification of Change in Start Time

Previous Announcement: 73 FR 3760, January 22, 2008.

Previously Announced Date Of Meeting: January 30, 2008.

Status: Open Meeting.

Change In Meeting Time: Change Start time to 8 a.m.

Contact Person For More Information: Wendy A. Hocking, Secretary of the Board, U.S. Postal Service, 475 L'Enfant Plaza, SW., Washington, DC 20260-1000. Telephone (202) 268-4800.

Wendy A. Hocking,
Secretary.

[FR Doc. 08-357 Filed 1-23-08; 4:37 pm]

BILLING CODE 7710-12-M